DEPARTMENT OF LABOR

Employment and Training Administration

[TA-W-42,304]

The Virkler Company, Charlotte, NC; Notice of Termination of Investigation

Pursuant to section 221 of the Trade Act of 1974, an investigation was initiated on October 28, 2002, in response to a worker petition which was filed by a company official on behalf of workers at The Virkler Company, Charlotte, North Carolina.

The petitioner has requested that the petition be withdrawn. Consequently, further investigation in this case would serve no purpose; and the investigation has been terminated.

Signed in Washington, DC, this 22nd day of November, 2002.
Linda G. Poole,
Certifying Officer, Division of Trade Adjustment Assistance.

[FR Doc. 02-31287 Filed 12-11-02; 8:45 am]

BILLING CODE 4510-30-P